LIBRARY OF CONGRESS

Copyright Office

37 CFR Part 201

[Docket No. RM 2008-8]

Exemption to Prohibition on Circumvention of Copyright Protection Systems for Access Control Technologies

AGENCY: Copyright Office, Library of Congress.

ACTION: Final Rule; correction.

SUMMARY: The Copyright Office makes a nonsubstantial correction to its regulation announcing the prohibition against circumvention of technological measures that effectively control access to copyrighted works shall not apply to persons who engage in noninfringing uses of six classes of copyrighted works.

EFFECTIVE DATE: August 6, 2010.

FOR FURTHER INFORMATION CONTACT: Robert Kasunic, Assistant General Counsel, and David O. Carson, General Counsel, Copyright GC/I&R, P.O. Box 70400, Washington, D.C. 20024. Telephone: (202) 707-8380. Telefax: (202) 707-8366.

SUPPLEMENTARY INFORMATION: The Copyright Office makes a non-substantive correcting amendment to the final rule governing exemption to prohibition on circumvention of copyright protection systems for access control technologies which was published July 27, 2010.

List of Subjects in 37 CFR 201

Copyright, Exemptions to prohibition against circumvention.

Correction

For the reason set forth in the preamble, 37 CFR part 201 is corrected by making the following technical amendment:

PART 201-GENERAL PROVISIONS

1. The authority citation for part 201 continues to read as follows:

Authority: 17 U.S.C. 702

2. Amend § 201.40 (b) introductory text by removing the word “five”.

Dated: July 28, 2010
Marybeth Peters,
Register of Copyrights.

[FR Doc. 2010-19007 Filed 8-5-10; 8:45 am]

BILLING CODE 1410-30-S